DEPARTMENT OF COMMERCE

International Trade Administration

[C-580-879]

Certain Corrosion-Resistant Steel Products From the Republic of Korea: Rescission of Countervailing Duty Expedited Review; 2014

AGENCY: Enforcement and Compliance, International Trade Administration, Department of Commerce.

SUMMARY: The Department of Commerce is rescinding the expedited review of the countervailing duty order on certain corrosion-resistant steel products (CORE) from the Republic of Korea (Korea) for the period of review January 1, 2014, through December 31, 2014, based on the timely withdrawal of requests for review.

DATES: Effective January 23, 2017.

FOR FURTHER INFORMATION CONTACT: Myrna Lobo, Enforcement and Compliance, International Trade Administration, U.S. Department of Commerce, 1401 Constitution Avenue NW., Washington, DC 20230; telephone: (202) 482-2371.

SUPPLEMENTARY INFORMATION:

Background

On July 25, 2016, the Department published the countervailing duty order on CORE from Korea.¹ On August 24, 2016, POSCO and Hyundai Steel Company (Hyundai) each submitted a request to conduct an expedited review of this countervailing duty order.² POSCO and Hyundai were not selected for individual examination during the investigation and made these requests pursuant to 19 CFR 351.214(k). On October 4, 2016, the Department published in the Federal Register a notice of initiation with respect to POSCO and Hyundai.³ On October 11 and 17, 2016, POSCO and Hyundai, respectively, timely withdrew their review requests.⁴

¹ See Certain Corrosion-Resistant Steel Products from India, Italy, Republic of Korea and the People's Republic of China: Countervailing Duty Order, 81 FR 48387 (July 25, 2016).

² See letter from POSCO, “Corrosion-Resistant Steel Products from South Korea, Case No. C-580-879: Request for Expedited Review Pursuant to 19 CFR 351.214(k),” (August 24, 2016). See also letter from Hyundai, “Corrosion-Resistant Steel Products from South Korea, Case No. C-580-879: Request for Expedited Review Pursuant to 19 CFR 351.214(k),” (August 24, 2016).

³ See Certain Corrosion-Resistant Steel Products From the Republic of Korea: Initiation of Expedited Review of the Countervailing Duty Order, 81 FR 68404 (October 4, 2016).

⁴ See letter from POSCO, “Certain Corrosion-Resistant Steel Products from the Republic of Korea, Countervailing Duty Expedited Review, Case No. C-580-879: Withdrawal of POSCO's Request for Review,” (October 11, 2016). See also letter from Hyundai, “Certain Corrosion-Resistant Steel Products from the Republic of Korea, Countervailing Duty Expedited Review, Case No. C-580-879: Withdrawal of Hyundai Steel's Request for Review,” (October 17, 2016).

Rescission of Review

Pursuant to 19 CFR 351.214(k)(3), expedited countervailing duty reviews will be conducted in accordance with the new shipper review regulations. Pursuant to 19 CFR 351.214(f)(1), the Department will rescind a new shipper review, in whole or in part, if a party that requested a review withdraws the request within 60 days of the date of publication of notice of initiation of the requested review. The date of publication of notice of initiation of the requested review was October 4, 2016, and POSCO and Hyundai each withdrew its request for review on October 11 and 17, 2016, respectively, within the 60-day deadline. No other parties requested an expedited review of the order. Therefore, we are rescinding the expedited review of the countervailing duty order on CORE from Korea covering the period January 1, 2014, through December 31, 2014.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: January 12, 2017.
Gary Taverman,
Associate Deputy Assistant Secretary for Antidumping and Countervailing Duty Operations.

[FR Doc. 2017-01272 Filed 1-19-17; 8:45 am]

BILLING CODE 3510-DS-P